DEPARTMENT OF HEALTH AND HUMAN SERVICES

National Institutes of Health

Proposed Collection; Comment Request; Health Information National Trends Survey 2007 (HINTS 2007)

Summary: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: Health Information National Trends Survey 2007 (HINTS 2007).

Type of Information Collection Request: New.

Need and Use of Information Collection: Building on the first two rounds of HINTS data collection, HINTS 2007 will continue to provide NCI with a comprehensive assessment of the American public's current access to, and use of, information about cancer, including cancer prevention, early detection, diagnosis, treatment, and prognosis. The content of the survey will focus on understanding the degree to which members of the general population understand vital cancer prevention messages. More importantly, this NCI survey will couple knowledge-related questions with inquiries into the communication channels through which understanding is being obtained. HINTS is intended to be the foundation of NCI's effort to build on the opportunities presented by a national shift in communication context, and by so doing, improve the nation's ability to reduce the national cancer burden. Data will be used (1) To understand individuals sources of and access to cancer-related information; (2) to measure progress in improving cancer knowledge and communication to the general public; (3) to develop appropriate messages for the public about cancer prevention, detection, diagnosis, treatment, and survivorship; and (4) to identify research gaps and guide decisions about NCI's research efforts in health promotion and health communication.

Frequency of Response: One time.

Affected Public: Individuals.

Type of Respondents: U.S. Adults.

The annual reporting burden is as follows:

Estimated Number of Respondents: 10,599.

Estimated Number of Responses per Respondent: 1.

Average Burden Hours per Response: .33.

Estimated Total Annual Burden Hours Requested: 3,576.

The annualized cost to respondents is estimated at: $35,760. There are no Capital Costs to report. There are no Operating or Maintenance Costs to report.

Type of respondent | Estimated number of respondents | Frequency of response | Average hours per response | Annual hour burden
Pilot RDD Screener | 250 | 1 | .0833 | 21
Pilot RDD Interview* | 150 | 1 | .4167 | 63
Pilot Mail Survey | 150 | 1 | .3333 | 50
RDD Screener | 5,833 | 1 | .0833 | 486
RDD Interview* | 3,500 | 1 | .4167 | 1,458
Mail Survey | 3,660 | 1 | .3333 | 1,219
Telephone Screener for Followup of Mail | 956 | 1 | .0833 | 80
Telephone Interview for Follow-up of Mail* | 478 | 1 | .4167 | 199
Totals |  |  |  | 3,576
* Pilot survey and HINTS 2007 RDD interview respondents are a subset of the RDD screener respondents. Similarly, the telephone interview respondents in the followup of mail nonrespondents are a subset of the telephone screener respondents in the followup of mail nonrespondents. N = 10,849.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Bradford W. Hesse, Ph.D., Project Officer, National Cancer Institute, NIH, EPN 4068, 6130 Executive Boulevard MSC 7365, Bethesda, Maryland 20892-7365, or call non-toll-free number 301-594-9904, or FAX your request to 301-480-2198, or E-mail your request, including your address, to hesseb@mail.nih.gov.

Comments Due Date: Comments regarding this information collection are best assured of having their full effect if received within 60-days of the date of this publication.

Dated: October 18, 2006.
Rachelle Ragland-Greene,
NCI Project Clearance Liaison, National Institutes of Health.

[FR Doc. E6-17964 Filed 10-25-06; 8:45 am]

BILLING CODE 4101-01-P